DEPARTMENT OF THE TREASURY

United States Mint

Pricing for the Presidential Silver Medals Program

AGENCY: United States Mint, Department of the Treasury.

ACTION: Notice.

SUMMARY: The United States Mint is announcing pricing for the Presidential Silver Medals Program as follows:

Product | Retail price
George Washington Presidential Silver Medal | $39.95
John Adams Presidential Silver Medal | 39.95
Remaining Presidential Silver Medals | 39.95

FOR FURTHER INFORMATION CONTACT: Veronica Anderson, Program Manager for Numismatic and Bullion; United States Mint; 801 9th Street NW; Washington, DC 20220; or call 202-354-7500.

Authority: 31 U.S.C. 5111(a)(2)

Dated: July 27, 2018.
David J. Ryder,
Director, United States Mint.

[FR Doc. 2018-16441 Filed 7-31-18; 8:45 am]

BILLING CODE P